DEPARTMENT OF DEFENSE

Office of the Secretary

[Transmittal No. 25-21]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-21 and Policy Justification.

Dated: January 7, 2026.
Stephanie J. Bost,
Alternate OSD Federal Register Liaison Officer, Department of Defense.

BILLING CODE 6001-FR-P

BILLING CODE 6001-FR-C

Transmittal No. 25-21

Notice of Proposed Issuance of Letter of Offer Pursuant to Section 36(b)(1) of the Arms Export Control Act, as amended

(i) Prospective Purchaser: Government of Ecuador

(ii) Total Estimated Value:

Major Defense Equipment * | $ 0
Other | $64 million
TOTAL | $64 million

Funding Source: National Funds

(iii) Description and Quantity or Quantities of Articles or Services under Consideration for Purchase:

Major Defense Equipment (MDE):

None

Non-Major Defense Equipment:

The following non-MDE items will be included: M4A1 rifles; Magpul PMAG M4 magazines; technical manuals; training and support; and other related elements of logistics and program support.

(iv) Military Department: Army (EC-B-UAC)

(v) Prior Related Cases, if any: None

(vi) Sales Commission, Fee, etc., Paid, Offered, or Agreed to be Paid: None known at this time

(vii) Sensitivity of Technology Contained in the Defense Article or Defense Services Proposed to be Sold: None

(viii) Date Report Delivered to Congress: April 1, 2025

* as defined in Section 47(6) of the Arms Export Control Act.

POLICY JUSTIFICATION

Ecuador—M4A1 Rifles and Support

The Government of Ecuador has requested to buy M4A1 rifles. The following non-MDE items will also be included: Magpul PMAG M4 magazines; technical manuals; training and support; and other related elements of logistics and program support. The estimated total cost is $64 million.

This proposed sale will support the foreign policy goals and national security objectives of the United States (U.S.) by improving the security of Ecuador, an important force for political stability and economic progress in South America.

The proposed sale will improve Ecuador's capability to meet current and future threats by improving the ability of its armed forces to conduct and execute military operations to counter transnational organized crime.

The proposed sale of this equipment and support will not alter the basic military balance in the region.

The principal contractor will be determined after case implementation. At this time, the U.S. Government is not aware of any offset agreement proposed in connection with this potential sale. Any offset agreement will be defined in negotiations between the purchaser and the contractor.

Implementation of this proposed sale will not require the assignment of any additional U.S. Government or contractor representatives to Ecuador.

There will be no adverse impact on U.S. defense readiness as a result of this proposed sale.

[FR Doc. 2026-00311 Filed 1-9-26; 8:45 am]

BILLING CODE 6001-FR-P